DEPARTMENT OF AGRICULTURE

Submission for OMB Review; Comment Request

June 14, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Dairy Disaster Assistance Payment Program (DDAP).

OMB Control Number: 0560-NEW.

Summary of Collection: The 2004 Dairy Disaster Assistance Payment (DDAP) Program is administered and implemented under the general direction of and supervision of the Farm Service Agency through the State and County Committees in Counties declared disaster by the President due to hurricanes in 2004. Section 103 of the Military Construction Appropriations and Emergency Hurricane Supplemental Appropriations Act of 2005 authorizes the DDAP (Pub. L. 108-324), which provide for the Secretary of Agriculture to make payments to dairy producers for dairy production and spoilage losses in counties declared a disaster by the President of the United States in 2004 due to hurricanes.

Need and Use of the Information: The objective of the program is to make direct payments to dairy producers to help them recover from devastating losses and weather the current economic crisis that has resulted from the 2004 hurricanes. The information collected on CCC-742, 2004 Dairy Disaster Assistance Payment Program Application, will be used to establish eligibility and payment amounts. Without the information, there would be no way to implement the program, account for funds issued, or ensure that program requirements are met.

Description of Respondents: Farms; Individuals or households; Business or other-for-profit.

Number of Respondents: 3,000.

Frequency of Responses: Reporting: Annually.

Total Burden Hours: 3,240.

Ruth Brown,
Departmental Information Collection Clearance Officer.

[FR Doc. 05-12058 Filed 6-17-05; 8:45 am]

BILLING CODE 3410-05-P